DEPARTMENT OF COMMERCE

National Oceanic and Atmospheric Administration

[RTID 0648-XB875]

Notice of Intent To Prepare a Programmatic Environmental Impact Statement for Identification of One or More Aquaculture Opportunity Area(s) in Southern California

AGENCY: National Marine Fisheries Service (NMFS), National Oceanic and Atmospheric Administration (NOAA), Department of Commerce.

ACTION: Notice of intent to prepare a Programmatic Environmental Impact Statement; notice of public scoping.

SUMMARY: The NMFS West Coast Region is publishing this Notice of Intent (NOI) to prepare a Programmatic Environmental Impact Statement (PEIS) under the National Environmental Policy Act (NEPA) for the proposed identification of one or more Aquaculture Opportunity Areas (AOAs) to be located in Federal waters off the coast of Southern California. An AOA is considered to be a defined geographic area that has been evaluated to determine its potential suitability for commercial aquaculture. The proposed action is a planning initiative only and does not propose any aquaculture facilities or permits. The United States Army Corps of Engineers (USACE) Los Angeles District, the United States Coast Guard (USCG) District Eleven, and the Environmental Protection Agency (EPA) Region 9 will act as cooperating agencies for the purposes of the PEIS.

DATES: NMFS requests comments concerning the scope of the proposed action, its potential impacts to the natural and human environment, means for avoiding, minimizing, or mitigating potential impacts, the range of preliminary alternatives proposed in this notification, and any additional reasonable alternatives that should be considered within the Southern California Bight. All comments must be received by 8:59 p.m. Pacific Standard Time (PST) July 22, 2022. NMFS expects the Draft PEIS is to be available in 2023 and the Final PEIS to be available April of 2024 with a Record of Decision May of 2024. NMFS will host two webinar-based public scoping meetings and will allow for oral comments in English during allotted times in the webinar. The webinar meetings will occur at the following dates and times:

(1) June 27, 2022, 12 p.m. to 2 p.m. PST

(2) July 11, 2022, 5 p.m. to 7 p.m. PST

ADDRESSES: Due to remaining COVID uncertainties, all public comment opportunities will be electronic, either through written comments or through oral comment stated during allotted times in the webinar-based public listening sessions. Please do not send any written comments by hard-copy mail or facsimile to a NMFS office address or fax number. You may submit comments on the NOI by any of the following methods.

Electronic Submission: Submit all written public comments via https://www.regulations.gov. Enter NOAA-NMFS-2022-0051 in the Search box. Click on the “Comment” icon, complete the required fields, and enter or attach your comments.

Webinar links: Provide oral comments during designated times during virtual public scoping meetings, as described under the DATES section of this document. To hear audio and provide comments during the public scoping meetings, dial 888-673-9785 and use participant access code 5831012. To view presentations during the public scoping meetings, click on the webinar link. The webinar link for June 27, 2022, is: https://www.mymeetings.com/nc/join.php?i=PWXW2725139&p=5831012&t=c. The webinar link for July 11, 2022, is: https://www.mymeetings.com/nc/join.php?i=PWXW2725143&p=5831012&t=c. Links and toll-free phone numbers for each webinar can also be found at https://www.fisheries.noaa.gov/event/southern-california-aquaculture-opportunity-area-scoping-meeting. Please see the `Public Scoping Process' section of this document for more accessibility options.

Instructions: It is important that reviewers provide their comments at such times and in such a manner that they are useful to the agency's preparation of the PEIS. Therefore, comments must be provided prior to the close of the comment period and should clearly articulate the reviewer's concerns and contentions. Comments must be submitted by one of the above methods to ensure they are received, documented, and considered by NMFS. Comments sent by any other method, to any other address or individual, or received after the end of the comment period, may not be considered. All comments received are a part of the public record. All personal identifying information (e.g., name, address, etc.) submitted voluntarily by the sender will be publicly accessible. Do not submit confidential business information, or otherwise sensitive or protected information. NMFS will accept anonymous comments (enter “N/A” in the required fields if you wish to remain anonymous).

FOR FURTHER INFORMATION CONTACT: Diane Windham, NOAA-NMFS West Coast Region Aquaculture Coordinator, socalaoa.wcr@noaa.gov.

SUPPLEMENTARY INFORMATION:

Purpose and Need for the Proposed Action

The Federal action proposed in the PEIS is to identify one or more locations (referred to as AOAs) that may be suitable for multiple future offshore aquaculture projects in Federal waters of the Southern California Bight, and to evaluate the impacts of siting aquaculture in those locations. AOAs identified through this process would be considered potentially suitable for finfish, shellfish, macroalgae, or multi-species aquaculture. The proposed action is a long-term planning effort. It is not a regulatory or permitting action. The analysis may be used to inform such processes for individual projects proposed later in time.

On May 7, 2020, the White House issued an Executive Order on Promoting American Seafood Competitiveness and Economic Growth (E.O. 13921), which requires the Secretary of Commerce to identify geographic areas containing locations suitable for commercial aquaculture. The purpose of the proposed action is to apply a science-based approach to identify AOAs in Federal waters. The goal of identifying AOAs is to promote American seafood competitiveness, food security, economic growth, and to support the facilitation of the development of domestic commercial aquaculture, consistent with sustaining and conserving marine resources and applicable laws, regulations and policies.

The proposed action is needed to meet the directives of E.O. 13921 to address the increasing demand for seafood, facilitate long-term planning for marine aquaculture development, and address interests and concerns regarding offshore marine aquaculture siting.

Background

The National Centers for Coastal Ocean Science (NCCOS) initiated a marine spatial planning process to assist agency decision makers in identifying areas that may be suitable for locating AOAs as mandated by E.O. 13921. This process was based on spatial suitability modeling that included data layers relevant to administrative boundaries, national security (i.e., military), navigation and transportation, energy and industry infrastructure, commercial and recreational fishing, natural and cultural resources, and oceanography (i.e., non-living resources). This spatial modeling approach was specific to the planning goal of identifying discrete areas between 500 and 2,000 acres that met the industry and engineering requirements of depth and distance from shore and are the most suitable for all types of aquaculture development including the cultivation of finfish, macroalgae, shellfish, or a combination of species. This work resulted in an Aquaculture Opportunity Area Atlas for the Southern California Bight (Morris, J.A. Jr, MacKay, J.K., Jossart, J.A., Wickliffe, L.C., Randall, A.L., Bath, G.E., Balling, M.B., Jensen, B.M., and Riley, K.L. 2021. An Aquaculture Opportunity Area Atlas for the Southern California Bight. NOAA Technical Memorandum NOS NCCOS 298. Beaufort, NC. 485 pp. https://doi.org/10.25923/tmx9-ex26. Available online at https://coastalscience.noaa.gov/data_reports/an-aquaculture-opportunity-area-atlas-for-the-southern-california-bight/) (referred to hereafter as the Atlas).

The Atlas includes peer-reviewed technical information that may be used to assist agency decision makers in identifying areas that may be suitable for locating AOAs in Federal waters of the Southern California Bight. The Southern California Bight is considered as the marine space within the United States Exclusive Economic Zone (U.S. EEZ) associated with the coastline between Point Conception and the U.S./Mexico border, and encompassing the Channel Islands. The Atlas does not reflect a decision by any agency to identify specific AOAs or foreclose the agency's ability to evaluate other reasonable locations for consideration in the Southern California Bight. The Atlas is a technical document providing geospatial planning information that will be used as one source of information to assist NMFS in identifying AOAs through the NEPA process.

Preliminary Proposed Action and Alternatives

The NMFS West Coast Region proposes to identify geographically discrete areas within Federal waters (outside of State waters within the U.S. EEZ) off the coast of Southern California that would be suitable to site future aquaculture development. The identified area(s) would be known as the Southern California AOA. The information within the Atlas was used as the basis for the locations described in the preliminary alternatives. Alternative 1 is the No Action Alternative, in which no AOA would be identified in Federal waters offshore of Southern California. In Alternative 2, NMFS would identify at least one and up to eight AOAs from within the boundaries of the North Study Areas Selected Site Options (SSOs), depicted as polygons in Figure 3.45 and Figure 3.62 of the Atlas. The North Study Areas SSOs are located between 10.02 and 19.72 kilometers (5.41 and 10.65 nautical miles) offshore of Santa Barbara and Ventura Counties in the Santa Barbara Channel. In Alternative 3, NMFS would identify at least one and up to two AOAs from within the boundaries of the Central North Study Area SSOs, as depicted as polygons in Figure 3.82 of the Atlas. The Central North Study Area SSOs are located between 8.06 and 8.82 kilometers (4.35 and 4.76 nautical miles) offshore of Los Angeles County in Santa Monica Bay. In Alternative 4, NMFS would identify the AOA(s) from within the boundaries of either study area, up to a maximum area to be determined by NMFS with input from the public. The total 10 SSOs are depicted as red dots in Figure 3.44 of the Atlas. The alternative descriptions are preliminary. Based on input received during public scoping, NMFS may analyze more or fewer alternatives in the Draft PEIS or may revise the above preliminary alternatives.

Summary of Expected Impacts

The PEIS will analyze potential impacts to the human environment that may occur should projects be proposed in one or more AOAs, if identified. Potential stressors associated with pre-construction, construction, operations and maintenance, and decommissioning of aquaculture activities that would be analyzed in the PEIS include, but are not limited to, bottom disturbance, vessel traffic, introduction of structures in the water column, introduction of cultivated aquatic organisms into the marine environment, and the introduction of commercial aquaculture products into economic markets and socioeconomic connections (e.g., job opportunities, infrastructure demands, or consumer perspectives).

Based on preliminary evaluation of the potential stressors described above, potential environmental impacts could include modifications to marine habitat, changes in water quality, underwater noise, risk of marine debris, novel interactions of native and/or protected living marine resources with infrastructure and vessels (e.g., injury or mortality due to entanglement, vessel collision, as well as behavioral changes such as aggregating, avoidance, or other disturbance), novel interactions of cultivated aquatic organisms with disease, invasive and/or nuisance species found in the marine environment, and novel interactions among naturally occurring organisms and cultivated species such as food-web dynamics or genetic interactions.

Environmental resources that may be analyzed in the PEIS include, but are not limited to, unique geographic areas such as marine managed areas and bathymetric features, water quality, hydrology and chemistry, air quality, ecosystem functions, wild fish stocks targeted for commercial and recreational fishing, highly migratory species, and protected species and their habitats and movement patterns.

The PEIS may also evaluate the connection between the marine environment and human landscape through the analysis of available socio-economic data. Topics may include, but are not limited to, interactions of offshore aquaculture with historic and cultural resources, working waterfronts, environmental justice, public health and safety, and with other ocean user groups in geographic space and in economic markets. Socio-economic indicators that may be used to analyze potential impacts of the expected interactions include, but are not limited to, employment opportunities and other financial considerations of a commercial aquaculture business, biosecurity, seafood safety and compliance programs, economic patterns of the existing seafood sector, fisheries, shipping, tourism, or other ocean activities within the region, supply chains, planned coastal development and existing coastal infrastructure, demographic data of coastal communities such as income and education, community access to resources, social vulnerability, and social values.

Potentially affected user groups may include commercial and recreational fishers, other recreational and tourism-based offshore ocean activities, the commercial shipping industry, the existing aquaculture industry within State waters, protected resource management and other research cruises, regional port districts, employees and consumers within the regional seafood sector, coastal communities, and Native American tribes and Indigenous communities with cultural traditions, identities, and experiences associated with the ocean.

NMFS encourages comment on the proposed alternatives and the identified stressors, impacts, resources, and other public concerns that should be considered in the PEIS.

Anticipated Permits and Authorizations

The proposed action, identification of one or more AOAs, is a planning action and does not include any activity that would require a permit or authorization as part of planning. The proposed action does not create any new regulatory framework or change any existing statutory authority related to offshore marine aquaculture. Neither the Final PEIS nor the resulting Record of Decision (ROD) would authorize any activities or approve any individual projects. Future proposals for aquaculture projects proposed for siting within an AOA would undergo project level environmental review and permitting. A proposed project would undergo project-specific NEPA review that could tier from the PEIS. In addition, project-specific permits and approvals from the permitting agencies would be required. Additional NEPA analysis may be required as part of permitting and authorization processes. Cooperating agencies may adopt the PEIS and utilize the information in their permitting actions.

Schedule for the Decision-Making Process

This NOI initiates the NEPA compliance process associated with writing a PEIS. During the 60-day comment period, interested parties are invited to provide comments on the proposed action, the preliminary range of alternatives, any additional reasonable alternatives in the Southern California Bight, and potential stressors, impacts, and resources. NMFS expects the Draft PEIS to be available to the public on or around Fall of 2023 and the Final PEIS to be available to the public on or around April of 2024.

Public Scoping Process

This NOI continues the scoping process, which guides the development of the PEIS. NMFS will use the public scoping process to gather input from individuals, organizations, Native American tribes, and Federal, State, and local agencies on the proposed action. The scoping process will inform the scope and significant issues to be analyzed in the PEIS. Interested parties may submit public comments according to the instructions described in the DATES and ADDRESSES sections above. Additional information may be found online at https://www.fisheries.noaa.gov/west-coast/aquaculture/west-coast-region-southern-california-aquaculture-opportunity-area. Accessible options for the visually or hearing impaired include full recordings and written transcripts of the webinar-based listening sessions. All presentation materials, recordings, and transcripts will be posted to the website within five business days of the webinar. Persons needing reasonable accommodations to attend and participate in the public meetings should contact Diane Windham at socalaoa.wcr@noaa.gov. To allow sufficient time to process requests, please notify at least five business days prior to the relevant meeting.

Request for Identification of Potential Alternatives, Information, and Analyses Relevant to the Proposed Action

NMFS requests data, comments, views, information, analysis, alternatives, or suggestions from the public; affected federal, state, tribal, and local governments, agencies, and offices; the scientific community; industry; or any other interested party on the Proposed Action that would help the agency consider both beneficial and adverse impacts. Specifically, for offshore regions in the Southern California Bight, NMFS requests public input on the following:

(1) The scope of the NEPA analysis, including the range of reasonable alternatives described above.

(2) Suitable species and gear for aquaculture.

(3) Suitable reporting requirements for owners and operators of aquaculture facilities.

(4) Types of aquaculture (e.g., finfish, shellfish, seaweed, integrated multi-trophic aquaculture) that could be supported and/or analyzed.

(5) Potential impacts to biological, physical, social, cultural, and economic resources.

(6) Information related to social barriers and/or economic constraints for aquaculture development.

(7) Information related to technologies and strategies that could increase opportunity or mitigate risks of aquaculture development.

(8) Information related to diversity, equity, and inclusion in aquaculture and the seafood sector.

(9) Information related to climate change and climate equity.

(10) Potential interactions with protected species, essential fish habitat, and other sensitive habitats.

(11) Potential interactions with commercial and recreational fishing industries, tourism and recreation, and other offshore ocean users.

(12) Information on other current or planned activities in, or in the vicinity of, the areas described in this NOI and their possible impacts on aquaculture development, or the impact of aquaculture developments on those activities.

(13) Input on the size parameters of a single AOA that would be suitable to support aquaculture development in the Southern California Bight.

(14) Input related to the risks and/or benefits of whether an AOA should be a single, continuous geographic space, or a collection of discrete areas separated from one another.

(15) Input related to how an AOA could simultaneously support aquaculture development along with environmental, economic, and social sustainability—including ways to incorporate mitigation and cost-benefit analyses.

(16) Other information relevant to the Proposed Action and its impacts on the human environment.

Lead and Cooperating Agencies

Consistent with E.O. 13921, NOAA is designated as the lead agency for the proposed action. The NMFS West Coast Region invited the EPA Region 9, the USCG District Eleven, and the USACE Los Angeles District to act as cooperating agencies for the purposes of the PEIS. EPA, USCG, and USACE have agreed to act as cooperating agencies.

Decision Maker

Scott M. Rumsey, Acting Regional Administrator of NOAA Fisheries' West Coast Region.

Nature of Decision To Be Made

If an action alternative is selected, the decision maker would select an alternative that identifies one or more AOAs as part of a planning exercise for offshore marine aquaculture in Southern California. No specific aquaculture projects are being proposed or will be permitted through the PEIS. The analysis presented in the Draft and Final PEIS and the identification of any AOAs in the ROD will serve to guide and inform future decision-making (e.g., environmental review and permitting processes) if and when specific proposals to conduct aquaculture operations are proposed within these areas.

Authority: Executive Order on Promoting American Seafood Competitiveness and Economic Growth (E.O. 13921).

Dated: May 13, 2022.
Danielle Blacklock,
Director, Office of Aquaculture, National Marine Fisheries Service.

[FR Doc. 2022-11010 Filed 5-20-22; 8:45 am]

BILLING CODE 3510-22-P